DEPARTMENT OF TRANSPORTATION

Federal Aviation Administration

14 CFR Part 39

[Docket No. 2002-NM-339-AD; Amendment 39-13727; AD 2004-14-18]

RIN 2120-AA64

Airworthiness Directives; Bombardier Model DHC-8-102, -103, and -106 Airplanes

AGENCY: Federal Aviation Administration, DOT.

ACTION: Final rule.

SUMMARY: This amendment adopts a new airworthiness directive (AD), applicable to certain Bombardier Model DHC-8-102, -103, and -106 airplanes, that requires repetitive detailed inspections of the left and right aileron tab actuator arm channels for cracking, and corrective actions if necessary. This proposal also provides an optional terminating action for the repetitive inspections. This action is necessary to prevent increased roll forces due to cracking of the left and right aileron tab actuator arms, which could be interpreted by the pilot as a flight control problem and might lead to loss of control of the airplane. This action is intended to address the identified unsafe condition.

DATES: Effective August 17, 2004.

The incorporation by reference of certain publications listed in the regulations is approved by the Director of the Federal Register as of August 17, 2004.

ADDRESSES: The service information referenced in this AD may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

FOR FURTHER INFORMATION CONTACT: Richard Beckwith, Aerospace Engineer, Airframe and Propulsion Branch, ANE-171, FAA, New York Aircraft Certification Office (ACO), 1600 Stewart Ave., Westbury, NY 11590; telephone (516) 228-7306; fax (516) 794-5531.

SUPPLEMENTARY INFORMATION: A proposal to amend part 39 of the Federal Aviation Regulations (14 CFR part 39) to include an airworthiness directive (AD) that is applicable to certain Bombardier Model DHC-8-102, -103, and -106 airplanes was published in the Federal Register on May 5, 2004 (69 FR 25041). That action proposed repetitive detailed inspections of the left and right aileron tab actuator arm channels for cracking, and corrective actions if necessary. That action also proposed an optional terminating action for the repetitive inspections.

Comments

Interested persons have been afforded an opportunity to participate in the making of this amendment. No comments have been submitted on the proposed AD or on the determination of the cost to the public.

Conclusion

After careful review of the available data, the FAA has determined that air safety and the public interest require the adoption of the rule as proposed.

Cost Impact

We estimate that 30 airplanes of U.S. registry will be affected by this AD, that it will take approximately 1 work hour per airplane to accomplish each required repetitive inspection, and that the average labor rate is $65 per work hour. Based on these figures, the cost impact of the AD on U.S. operators is estimated to be $1,950, or $65 per airplane, per inspection.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-18 Bombardier, Inc. (Formerly de Havilland, Inc.): Amendment 39-13727. Docket 2002-NM-339-AD.

Applicability: Model DHC-8-102, -103, and -106 airplanes; serial numbers 3 through 119 inclusive; without Bombardier Modification 8/0864 incorporated; certificated in any category.

Compliance: Required as indicated, unless accomplished previously.

To prevent increased roll forces due to cracking of the left and right aileron tab actuator arm channels, which could be interpreted by the pilot as a flight control problem and might lead to loss of control of the airplane, accomplish the following:

Inspection and Corrective Actions

(a) Within 500 flight hours after the effective date of this AD, perform a detailed inspection of the left and right aileron tab actuator arm channels for cracking, in accordance with the Accomplishment Instructions of Bombardier Service Bulletin 8-57-07, Revision “F,” dated March 27, 2002.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no cracked actuator arm channel is found, repeat the inspection at intervals not to exceed 500 flight hours, until paragraph (a)(2) or (b) of this AD has been accomplished.

(2) If any cracked actuator arm channel is found, prior to further flight, accomplish paragraph (a)(2)(i) or (a)(2)(ii) of this AD. Accomplishment of paragraph (a)(2)(i) or (a)(2)(ii) terminates the repetitive inspections required by paragraph (a)(1) of this AD for the repaired or replaced aileron tab only.

(i) Replace the actuator arm channel with a new actuator arm channel; install a reinforcing angle on the new actuator arm channel; and replace the balance weight arm with a new balance weight arm; in accordance with Part A of the Accomplishment Instructions of the service bulletin.

(ii) Replace the aileron tab with a new, improved aileron tab in accordance with Part C of the Accomplishment Instructions of the service bulletin.

Optional Terminating Action

(b) Reinforcement of both actuator arm channels with reinforcing angles and installation of new balance weight arms in accordance with Part B of the Accomplishment Instructions of Bombardier Service Bulletin 8-57-07, Revision “F,” dated March 27, 2002; or replacement of the aileron tabs with new, improved tabs in accordance with Part C of the Accomplishment Instructions of that service bulletin; constitutes terminating action for the repetitive inspections required by paragraph (a)(1) of this AD.

Part Installation

(c) As of the effective date of this AD, no person may install any actuator arm channel or any aileron tab on any airplane except in accordance with paragraph (a)(2) or (b) of this AD.

Alternative Methods of Compliance

(d) In accordance with 14 CFR 39.19, the Manager, New York Aircraft Certification Office (ACO), FAA, is authorized to approve alternative methods of compliance for this AD.

Incorporation by Reference

(e) The actions shall be done in accordance with Bombardier Service Bulletin 8-57-07, Revision “F,” dated March 27, 2002. This incorporation by reference was approved by the Director of the Federal Register in accordance with 5 U.S.C. 552(a) and 1 CFR part 51. Copies may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

Note 2: The subject of this AD is addressed in Canadian airworthiness directive CF-2002-29, dated May 22, 2002.

Effective Date

(f) This amendment becomes effective on August 17, 2004.

Issued in Renton, Washington, on June 30, 2004.
Kalene C. Yanamura,
Acting Manager, Transport Airplane Directorate, Aircraft Certification Service.

[FR Doc. 04-15513 Filed 7-12-04; 8:45 am]

BILLING CODE 4910-13-P